ENVIRONMENTAL PROTECTION AGENCY

[ER-FRL-6646-8]

Environmental Impact Statements; Notice of Availability

Responsible Agency: Office of Federal Activities, General Information (202) 564-7167 or http://www.epa.gov/compliance/nepa/

Weekly receipt of Environmental Impact Statements

Filed December 15, 2003 Through December 18, 2003

Pursuant to 40 CFR 1506.9.

Due to administrative leave being granted on December 26, 2003, EPA's Notice of Availability of Weekly Receipts of Environmental Impact Statements (EISs) are being published on December 24, 2003. All EISs received on December 19, 2003 will be published in January 2, 2004 Federal Register (FR) with all Wait Periods and Comment Periods calculated from the December 24, 2003 FR date.

EIS No. 030567, Draft EIS, FHW, NY, NY-17 Parksville/SH-5223, Liberty-County Line, Part 1 Construction and Reconstruction to Interstate Standards, Funding and U.S. Army COE Section 404 Permit Issuance, Town of Liberty, Sullivan County, NY, Comment Period Ends: February 6, 2004, Contact: Robert E. Arnold (518) 472-3636.

EIS No. 030568, Final EIS, IBW, TX, Lower Rio Grande Flood Control Project, Alternative Vegetation Maintenance Practices Impacts, Implementation, Portions of the Rio Grande, Cameron, Hidalgo and Willacy Counties, TX, Wait Period Ends: January 22, 2004, Contact: Douglas Echlin (915) 832-4741.

EIS No. 030569, Final EIS, AFS, WA, Gotchen Risk Reduction and Restoration Project, Implementation, Mount Adams Ranger District, Gifford Pinchot National Forest, Skamania and Yakima Counties, WA, Wait Period Ends: January 22, 2004, Contact: Bruce Holmson (509) 395-3410. This document is available on the Internet at: http://www.fs.fed.us/gpnf/.

EIS No. 030570, Draft EIS, FHW, OR, Pioneer Mountain to Eddyville U.S. 20, the Corvallis-Newport Highway, Improvements, Right-of-Way Grant and U.S. Army COE Section 404 Permit, Lincoln County, OR, Comment Period Ends: February 6, 2004, Contact: John Gernhauser (503) 399-5749.

EIS No. 030571, Final EIS, BLM, WY, South Powder River Basin Coal Project, Application for Leasing of Five Federal Coal Tracts: NARO Tracts: NARO North and NARO South (North Antelope/ Rochelle Mine Complex), Little Thunder (Black Thunder Mine) West Roundup (North Rochelle Mine) and West Antelope (Antelope Mine), Campbell and Converse Counties, WY, Wait Period Ends: January 22, 2004, Contact: Nancy Doelger (307) 261-7627. This document is available on the Internet at: http://www.blm.gov/nepa/prbcoal-feis.

EIS No. 030572, Final EIS, COE, CA, San Diego Harbor Deepening (Central Navigation Channel) Involving Three Components: Federal Central Navigation Channel Deepening, Disposal of the Dredged Material at the LA-5 Ocean Disposal Site and Relocation and Disposal and Abandonment of a 69 kV Electrical Site, San Diego County, Wait Period Ends: January 22, 2004, Contact: Joy Jaiswal (213) 452-3851.

EIS No. 030573, Draft Supplement, NIH, MT, Rocky Mountain Laboratories' (RML) Integrated Research Facility, Construction and Operation, Housing Biosafety Level (BSL)-2, BSL-3 and BSL-4 Laboratories, Analyzation of Associated Potential Impacts, Ravalli County, MT, Comment Period Ends: February 11, 2004, Contact: Valerie Nottingham (301) 496-3537.

EIS No. 030574, Final EIS, FHW, IN, I-69 Evansville to Indianapolis Corridor Study, I-69 Completion in Southwestern Indiana and Corridor Selection, IN, Wait Period Ends: January 22, 2004, Contact: Robert Dirks (317) 226-7492. This document is available on the Internet at: http://www.169indyevn.org.

EIS No. 030575, Draft EIS, NPS, PA, Lackawanna Heritage Valley, a State and National Heritage Area, Management Action Plan, Implementation, Lackawanna, Luzerne, Wayne and Susquehanna Counties, PA, Comment Period Ends: February 6, 2004, Contact: Peter Samuel (215) 597-1848.

Dated: December 19, 2003.
Joseph C. Montgomery,
Director, NEPA Compliance Division, Office of Federal Activities.

[FR Doc. 03-31709 Filed 12-23-03; 8:45 am]

BILLING CODE 6560-50-P